DEPARTMENT OF COMMERCE

International Trade Administration

[A-570-890]

Second Amended Final Results of Antidumping Duty Administrative Review: Wooden Bedroom Furniture From the People's Republic of China

AGENCY: Import Administration, International Trade Administration, Department of Commerce.

SUMMARY: On August 22, 2007, the Department of Commerce (“Department”) published in the Federal Register the amended final results of the first administrative review and concurrent new shipper reviews of the antidumping duty order on wooden bedroom furniture from the People's Republic of China (“PRC”). See Amended Final Results of the Antidumping Duty Administrative Review and New Shipper Reviews: Wooden Bedroom Furniture from the People's Republic of China, 72 FR 46957 (August 22, 2007) (“Final Results”) ¹ and accompanying Issues and Decision Memorandum (August 8, 2007) (“Issues and Decision Memo”). The period of review (“POR”) covered June 24, 2004, through December 31, 2005. We are amending our Final Results to correct ministerial errors made in the calculation of the antidumping duty margin for Fujian Lianfu Forestry Co./Fujian Wonder Pacific Inc./Fuzhou Huan Mei Furniture Co., Ltd./Jiangsu Dare Furniture Co., Ltd. (collectively, “Dare Group”), Shanghai Aosen Furniture Co., Ltd. (“Shanghai Aosen”), and Kunwa Enterprise Company (“Kunwa”), pursuant to section 751(h) of the Tariff Act of 1930, as amended (“Act”).

¹ As a result of an inadvertent error by the Department in the final results, an incorrect appendix was attached to the notice released on August 8, 2007. The amended final results correct this error and were published in place if the original version released on August, 2007. The original notice was never published in the Federal Register.

EFFECTIVE DATE: November 7, 2007.

FOR FURTHER INFORMATION CONTACT: Lilit Astvatsatrian, AD/CVD Operations, Office 8, Import Administration, International Trade Administration, U.S. Department of Commerce, 14th Street and Constitution Avenue, NW., Washington, DC 20230; telephone: (202) 482-6412.

SUPPLEMENTARY INFORMATION:

Background

On August 21, 2007, Petitioners,² Dare Group, Shanghai Aosen, and Kunwa filed timely ministerial error allegations with respect to the Department's antidumping duty margin calculation in the Final Results. On August 27, 2007, Petitioners and Dare Group filed timely rebuttal comments.

² American Furniture Manufacturers Committee for Legal Trade and Vaughan-Bassett Furniture Company.

Scope of Order

The product covered by the order is wooden bedroom furniture. Wooden bedroom furniture is generally, but not exclusively, designed, manufactured, and offered for sale in coordinated groups, or bedrooms, in which all of the individual pieces are of approximately the same style and approximately the same material and/or finish. The subject merchandise is made substantially of wood products, including both solid wood and also engineered wood products made from wood particles, fibers, or other wooden materials such as plywood, oriented strand board, particle board, and fiberboard, with or without wood veneers, wood overlays, or laminates, with or without non-wood components or trim such as metal, marble, leather, glass, plastic, or other resins, and whether or not assembled, completed, or finished.

The subject merchandise includes the following items: (1) Wooden beds such as loft beds, bunk beds, and other beds; (2) wooden headboards for beds (whether stand-alone or attached to side rails), wooden footboards for beds, wooden side rails for beds, and wooden canopies for beds; (3) night tables, night stands, dressers, commodes, bureaus, mule chests, gentlemen's chests, bachelor's chests, lingerie chests, wardrobes, vanities, chessers, chifforobes, and wardrobe-type cabinets; (4) dressers with framed glass mirrors that are attached to, incorporated in, sit on, or hang over the dresser; (5) chests-on-chests,³ highboys,⁴ lowboys,⁵ chests of drawers,⁶ chests,⁷ door chests,⁸ chiffoniers,⁹ hutches,¹⁰ and armoires; ¹¹ (6) desks, computer stands, filing cabinets, book cases, or writing tables that are attached to or incorporated in the subject merchandise; and (7) other bedroom furniture consistent with the above list.

³ A chest-on-chest is typically a tall chest-of-drawers in two or more sections (or appearing to be in two or more sections), with one or two sections mounted (or appearing to be mounted) on a slightly larger chest; also known as a tallboy.

⁴ A highboy is typically a tall chest of drawers usually composed of a base and a top section with drawers, and supported on four legs or a small chest (often 15 inches or more in height).

⁵ A lowboy is typically a short chest of drawers, not more than four feet high, normally set on short legs.

⁶ A chest of drawers is typically a case containing drawers for storing clothing.

⁷ A chest is typically a case piece taller than it is wide featuring a series of drawers and with or without one or more doors for storing clothing. The piece can either include drawers or be designed as a large box incorporating a lid.

⁸ A door chest is typically a chest with hinged doors to store clothing, whether or not containing drawers. The piece may also include shelves for televisions and other entertainment electronics.

⁹ A chiffonier is typically a tall and narrow chest of drawers normally used for storing undergarments and lingerie, often with mirror(s) attached.

¹⁰ A hutch is typically an open case of furniture with shelves that typically sits on another piece of furniture and provides storage for clothes.

¹¹ An armoire is typically a tall cabinet or wardrobe (typically 50 inches or taller), with doors, and with one or more drawers (either exterior below or above the doors or interior behind the doors), shelves, and/or garment rods or other apparatus for storing clothes. Bedroom armoires may also be used to hold television receivers and/or other audio-visual entertainment systems.

The scope of the order excludes the following items: (1) Seats, chairs, benches, couches, sofas, sofa beds, stools, and other seating furniture; (2) mattresses, mattress supports (including box springs), infant cribs, water beds, and futon frames; (3) office furniture, such as desks, stand-up desks, computer cabinets, filing cabinets, credenzas, and bookcases; (4) dining room or kitchen furniture such as dining tables, chairs, servers, sideboards, buffets, corner cabinets, china cabinets, and china hutches; (5) other non-bedroom furniture, such as television cabinets, cocktail tables, end tables, occasional tables, wall systems, book cases, and entertainment systems; (6) bedroom furniture made primarily of wicker, cane, osier, bamboo or rattan; (7) side rails for beds made of metal if sold separately from the headboard and footboard; (8) bedroom furniture in which bentwood parts predominate; ¹² (9) jewelry armoires; ¹³ (10) cheval mirrors; ¹⁴ (11) certain metal parts; ¹⁵ (12) mirrors that do not attach to, incorporate in, sit on, or hang over a dresser if they are not designed and marketed to be sold in conjunction with a dresser as part of a dresser-mirror set; and (13) upholstered beds.¹⁶

¹² As used herein, bentwood means solid wood made pliable. Bentwood is wood that is brought to a curved shape by bending it while made pliable with moist heat or other agency and then set by cooling or drying. See Customs' Headquarters' Ruling Letter 043859, dated May 17, 1976.

¹³ Any armoire, cabinet or other accent item for the purpose of storing jewelry, not to exceed 24” in width, 18” in depth, and 49” in height, including a minimum of 5 lined drawers lined with felt or felt-like material, at least one side door (whether or not the door is lined with felt or felt-like material), with necklace hangers, and a flip-top lid with inset mirror. See Issues and Decision Memorandum from Laurel LaCivita to Laurie Parkhill, Office Director, Concerning Jewelry Armoires and Cheval Mirrors in the Antidumping Duty Investigation of Wooden Bedroom Furniture From the People's Republic of China, dated August 31, 2004. See also Wooden Bedroom Furniture From the People's Republic of China: Notice of Final Results of Changed Circumstances Review and Revocation in Part, 71 FR 38621 (July 7, 2006).

¹⁴ Cheval mirrors are, i.e., any framed, tiltable mirror with a height in excess of 50” that is mounted on a floor-standing, hinged base. Additionally, the scope of the order excludes combination cheval mirror/jewelry cabinets. The excluded merchandise is an integrated piece consisting of a cheval mirror, i.e., a framed tiltable mirror with a height in excess of 50 inches, mounted on a floor-standing, hinged base, the cheval mirror serving as a door to a cabinet back that is integral to the structure of the mirror and which constitutes a jewelry cabinet lined with fabric, having necklace and bracelet hooks, mountings for rings and shelves, with or without a working lock and key to secure the contents of the jewelry cabinet back to the cheval mirror, and no drawers anywhere on the integrated piece. The fully assembled piece must be atleast 50 inches in height, 14.5 inches in width, and 3 inches in depth. See Wooden Bedroom Furniture From the People's Republic of China: Final Results of Changed Circumstances Review and Determination To Revoke Order in Part, 72 FR 948 (January 9, 2007).

¹⁵ Metal furniture parts and unfinished furniture parts made of wood products (as defined above) that are not otherwise specifically named in this scope (i.e., wooden headboards for beds, wooden footboards for beds, wooden side rails for beds, and wooden canopies for beds) and that do not possess the essential character of wooden bedroom furniture in an unassembled, incomplete, or unfinished form. Such parts are usually classified under the Harmonized Tariff Schedule of the United States (“HTSUS”) subheading 9403.90.7000.

¹⁶ Upholstered beds that are completely upholstered, i.e., containing filling material and completely covered in sewn genuine leather, synthetic leather, or natural or synthetic decorative fabric. To be excluded, the entire bed (headboards, footboards, and side rails) must be upholstered except for bed feet, which may be of wood, metal, or any other material and which are no more than nine inches in height from the floor. See Wooden Bedroom Furniture From the People's Republic of China: Final Results of Changed Circumstances Review and Determination To Revoke Order in Part, 72 FR 7013 (February 14, 2007).

Imports of subject merchandise are classified under subheading 9403.50.9040 of the HTSUS as “wooden * * * beds” and under subheading 9403.50.9080 of the HTSUS as “other * * * wooden furniture of a kind used in the bedroom.” In addition, wooden headboards for beds, wooden footboards for beds, wooden side rails for beds, and wooden canopies for beds may also be entered under subheading 9403.50.9040 of the HTSUS as “parts of wood” and framed glass mirrors may also be entered under subheading 7009.92.5000 of the HTSUS as “glass mirrors * * * framed.” This order covers all wooden bedroom furniture meeting the above description, regardless of tariff classification. Although the HTSUS subheadings are provided for convenience and customs purposes, our written description of the scope of this proceeding is dispositive.

Ministerial Errors

A ministerial error is defined in section 751(h) of the Act and further clarified in 19 CFR 351.224(f) as “an error in addition, subtraction, or other arithmetic function, clerical error resulting from inaccurate copying, duplication, or the like, and any other similar type of unintentional error which the Secretary considers ministerial.”

After analyzing all interested parties' comments, we have determined, in accordance with 19 CFR 351.224(e), that ministerial errors existed in certain calculations for Dare Group and Shanghai Aosen in the Final Results. Correction of these errors results in a change to Dare Group's and Shanghai Aosen's final antidumping duty margins. Additionally, the rate change for Dare Group and Shanghai Aosen also affects the cash deposit rates for the companies subject to the administrative review that receive a separate rate. The rate for the PRC-wide entity remains unchanged. Further, we determined that a certain ministerial error existed with respect to our determination not to grant Kunwa a separate rate and, for these amended final results, we have determined that Kunwa has demonstrated its eligibility for a separate rate. For a detailed discussion of these ministerial errors, as well as the Department's analysis, see The Memorandum: Wooden Bedroom Furniture from the People's Republic of China: Analysis of Ministerial Error Allegations, dated November 5, 2007 (“Ministerial Error Allegation Memorandum”). The Ministerial Error Allegation Memorandum is on file in the Central Records Unit, room B-099 in the main Department building.

Therefore, in accordance with section 751(h) of the Act and 19 CFR 351.224(e), we are amending the Final Results of the administrative review of wooden bedroom furniture from the PRC. The revised weighted-average dumping margins are detailed below. For company-specific calculations, see “Analysis Memorandum for the Amended Final Results for Dare Group,” dated November 5, 2007 and “Analysis Memorandum for the Amended Final Results for Shanghai Aosen,” dated November 5, 2007. The revised final weighted-average dumping margins are as follows:

Wooden Bedroom Furniture From the PRC
Exporter | Weighted- average margin (percent)
Fujian Lianfu Forestry Co. Ltd. /Fujian Wonder Pacific Inc. (Dare Group) | 49.60
Fuzhou Huan Mei Furniture Co., Ltd. (Dare Group) | 49.60
Jiangsu Dare Furniture Co., Ltd. (Dare Group) | 49.60
Fine Furniture (Shanghai) Limited | 1.97
Foshan Guanqiu Furniture Co., Ltd. | 11.72
Shanghai Aosen Furniture Co., Ltd. | .40
Starcorp Funiture Co., Ltd, Starcorp Furniture (Shanghai) Co., Ltd., Orin Furniture (Shanghai) Co., Ltd., Shanghai Star Furniture Co., Ltd., and Shanghai Xing Ding Furniture Industrial Co., Ltd. | 216.01
Ace Furniture & Crafts Ltd. (a.k.a. Deqing Ace Furniture and Crafts Limited) | 35.78
Baigou Crafts Factory of Fengkai | 35.78
Best King International Ltd. | 35.78
Dalian Pretty Home Furniture | 35.78
Decca Furniture Limited | 35.78
Der Cheng Wooden Works of Factory | 35.78
Dongguan Dihao Furniture Co., Ltd. | 35.78
Dongguan Hua Ban Furniture Co., Ltd. | 35.78
Dongguan Mingsheng Furniture Co., Ltd. | 35.78
Dongguan New Technology Import & Export Co., Ltd. | 35.78
Dongguan Sunpower Enterprise Co., Ltd | 35.78
Dongguan Yihaiwei Furniture Limited | 35.78
Kalanter (Hong Kong) Furniture Company Limited | 35.78
Furnmart Ltd. | 35.78
Guangdong New Four Seas Furniture Manufacturing Ltd. | 35.78
Guangzhou Lucky Furniture Co. Ltd. | 35.78
Hong Yu Furniture (Shenzhen) Co. Ltd. | 35.78
Hung Fai Wood Products Factory, Ltd. | 35.78
Hwang Ho International Holdings Limited | 35.78
King Kei Furniture Factory | 35.78
King Wood Furniture Co., Ltd. | 35.78
Kunwa Enterprise Company | 35.78
Nantong Yangzi Furniture Co., Ltd. | 35.78
Po Ying Industrial Co. | 35.78
Profit Force Ltd. | 35.78
Qingdao Beiyuan-Shengli Furniture Co., Ltd. | 35.78
Qingdao Shenchang Wooden Co., Ltd. | 35.78
Red Apple Trading Co. Ltd. | 35.78
Shenyang Kunyu Wood Industry Co., Ltd. | 35.78
Shenzhen Dafuhao Industrial Development Co., Ltd. | 35.78
Shenzhen Shen Long Hang Industry Co., Ltd. | 35.78
Sino Concord International Corporation | 35.78
Tianjin First Wood Co., Ltd. | 216.01
T.J. Maxx International Co., Ltd. | 35.78
Top Art Furniture Factory/Sanxiang Top Art Funiture/Ngai Kun Trading | 35.78
Top Goal Development Co. | 35.78
Transworld (Zhangzhou) Furniture Co. Ltd. | 35.78
Wan Bao Chen Group Hong Kong Co. Ltd. | 35.78
Winmost Enterprises Limited | 35.78
Xilinmen Group Co. Ltd. | 35.78
Yongxin Industrial (Holdings) Limited | 35.78
Zhongshan Gainwell Furniture Co. Ltd. | 35.78
PRC-Wide Rate | 216.01

Assessment Rates

The Department has determined, and U.S. Customs and Border Protection (“CBP”) shall assess, antidumping duties on all appropriate entries. For customers/importers of respondents that did not report entered value, we calculated customer/importer-specific antidumping duty assessment amounts based on the ratio of the total amount of antidumping duties calculated for the examined sales of subject merchandise to the total quantity of subject merchandise sold in those transactions. For customers/importers of respondents that reported entered value, we calculated customer-specific antidumping duty assessment amounts based on customer/importer-specific ad valorem rates in accordance with 19 CFR 351.212(b)(1). For the companies receiving a separate rate that were not selected for individual review (i.e., separate rate companies) we will calculate an assessment rate based on the weighted average of the cash deposit rates calculated for the companies selected for individual review excluding any that are zero, de minimis, or based entirely on AFA pursuant to section 735(c)(5)(B) of the Act. The Department intends to issue appropriate assessment instructions directly to CBP 15 days after the date of publication of the second amended final results of these new shipper and administrative reviews.

Cash Deposit Requirements

The following cash deposit requirements will be effective upon publication of these second amended final results of this administrative review and new shippers for all shipments of the subject merchandise entered, or withdrawn from warehouse, for consumption on or after the publication date, as provided for by section 751(a)(2)(C) of the Act: (1) For the exporters listed above, the cash deposit rate will be the rates shown for those companies (except if the rate is de minimis, i.e., less than 0.5 percent, a zero cash deposit will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 216.01 percent; and (4) for all non-PRC exporters of subject merchandise which have not received their own rate, the cash deposit rate will be the rate applicable to the PRC exporters that supplied that non-PRC exporter. These deposit requirements shall remain in effect until further notice.

These second amended final results are published in accordance with sections 751(h) and 777(i)(1) of the Act.

Dated: November 5, 2007.
Stephen J. Claeys,
Acting Assistant Secretary for Import Administration.

[FR Doc. E7-21955 Filed 11-6-07; 8:45 am]

BILLING CODE 3510-DS-P